NUCLEAR REGULATORY COMMISSION

Sunshine Act Meeting

AGENCY HOLDING THE MEETING: Nuclear Regulatory Commission.

DATE: Weeks of May 21, 28, June 4, 11, 18, 25, 2001.

PLACE: Commissioners' Conference Room, 11555 Rockville Pike, Rockville, Maryland.

STATUS: Public and Closed.

MATTERS TO BE CONSIDERED: Week of May 21, 2001

There are no meetings scheduled for the Week of May 21, 2001.

Week of May 28, 2001—Tentative

Wednesday, May 30, 2001

10:25 a.m.—Affirmation Session (Public Meeting) (if needed)

Week of June 4, 2001—Tentative

Tuesday, June 5, 2001

9:25 a.m.—Affirmation Session (Public Meeting) (if needed)

2 p.m.—Discussion of Management Issues (Closed-Ex.2)

Wednesday, June 6, 2001

10:30 a.m.—All Employees Meeting (Public Meeting)

1:30 p.m.—All Employees Meeting (Public Meeting)

Week of June 11, 2001—Tentative

Thursday, June 14, 2001

9:25 a.m.—Affirmation Session (Public Meeting) (if needed)

9:30 a.m.—Meeting with Nuclear Waste Technical Review Board (Public Meeting)

1:30 p.m.—Briefing on License Renewal Program (Public Meeting) (Contact: David Solorio, 301-415-1973)

Week of June 18, 2001—Tentative

There are no meetings scheduled for the Week of June 18, 2001.

Week of June 25, 2001—Tentative

Wednesday, June 27, 2001

9:25 a.m.—Affirmation Session (Public Meeting) (if needed)

* The schedule for Commission meetings is subject to change on short notice. To verify the status of meetings call (recording)—(301) 415-1292. Contact person for more information: David Louis Gamberoni (301) 415-1651.

ADDITIONAL INFORMATION: By a vote of 5-0 on May 7 and 8, the Commission determined pursuant to U.S.C. 552b(e) and § 9.107(a) of the Commission's rules that “Affirmation of Northeast Nuclear Energy Company” (Millstone Nuclear Power Station, Unit No. 3; Facility Operating License NPF-49) Partial Review of LBP-00-26 (10/26/00), as directed by CLI-01-03 (1/17/01) Regarding Interpretation of GDC 62, Prevention of Criticality in Fuel Storage & Handling” be held on May 10, and on less than one week's notice to the public.

By a vote of 5-0 on May 10, the Commission determined pursuant to U.S.C. 552b(e) and § 9.107(a) of the Commission's rules that “Affirmation of Carolina Power and Light Company (Shearon Harris Nuclear Power Plant), Docket No. 50-400-LA, LBP-00-12, LBP-00-19, and LBP-01-09” be held on May 10, and on less than one week's notice to the public.

The NRC Commission Meeting Schedule can be found on the Internet at: http://www.nrc.gov/SECY/smj/schedule.htm

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: May 17, 2001.
Sandra M. Joosten,
Executive Assistant, Office of the Secretary.

[FR Doc. 01-12832 Filed 5-17-01; 12:13 pm]

BILLING CODE 7590-01-M